DEPARTMENT OF ENERGY

Environmental Impact Statement: Site Selection for the Expansion of the Strategic Petroleum Reserve

AGENCY: Department of Energy (DOE).

ACTION: Notice to extend the public scoping period and reschedule public scoping meetings.

SUMMARY: Due to the extraordinary circumstances created by Hurricane Katrina in the region where the proposed action and public scoping meetings will take place, DOE has extended the public scoping period and revised the dates and locations of the public scoping meetings originally announced in the Notice of Intent to Prepare an Environmental Impact Statement (70 FR 52088; September 1, 2005).

DATES:

Extended: The public scoping period is extended by 2 weeks to October 28, 2005.

Cancelled: The public scoping meeting at Hattiesburg, Mississippi, originally scheduled on October 4, 2005, is cancelled.

Cancelled: The public scoping meeting at Pascagoula, Mississippi, originally scheduled on October 5, 2005, is cancelled.

Rescheduled: The public scoping meeting at Houma, Louisiana, originally scheduled on October 6, 2005 has been rescheduled to October 19, 2005, at the Ramada Inn, 1400 West Tunnel Boulevard, from 7 p.m. to 9 p.m. Telephone: (985) 879-4871.

No Change to Original Schedule: The public scoping meeting at Lake Jackson, Texas, will take place as originally scheduled on October 11, 2005, 7 p.m. to 9 p.m. at the Cherotel Brazosport Hotel and Conference Center, 925 Hwy 332. Telephone: (979) 297-1161.

New Public Scoping Meeting: A public scoping meeting will be held at Jackson, Mississippi, on October 18, 2005, 7 p.m. to 9 p.m. at the Jackson Marriott Downtown, 200 East Amite Street. Telephone: (601) 969-5100.

FOR FURTHER INFORMATION CONTACT: Comments or suggestions on the scope and content of the EIS and requests to speak at the scoping meetings should be directed to Donald Silawsky, Office of Petroleum Reserves (FE-47), U.S. Department of Energy, 1000 Independence Avenue, SW., Washington, DC 20585-0301; telephone: (202) 586-1892; fax: (202) 586-4446; or electronic mail at Donald.Silawsky@hq.doe.gov. Envelopes and the subject line of e-mails or faxes should be labeled “Scoping for the SPR EIS.” Please note that conventional mail to DOE may be delayed by anthrax screening.

For information on the proposed project or to receive a copy of the Draft EIS when it is issued, contact Donald Silawsky by any of the means listed above. Additional information may also be found on the DOE Fossil Energy Strategic Petroleum Reserve proposed expansion Web site at http://fossil.energy.gov/news/techlines/2005/tl_spr_noi.html.

For information on the DOE NEPA process, contact Carol M. Borgstrom, Director, Office of NEPA Policy and Compliance (EH-42), U.S. Department of Energy, 1000 Independence Avenue, SW., Washington, DC 20585-0119; telephone: (202) 586-4600; fax: (202) 586-7031; or leave a toll-free message at: (800) 472-2756.

Issued in Washington, DC, on September 25, 2005.
Mark J. Matarrese,
NEPA Compliance Officer, Office of Fossil Energy.

[FR Doc. 05-19507 Filed 9-26-05; 2:34 pm]

BILLING CODE 6450-01-P